DEPARTMENT OF EDUCATION

34 CFR Chapter III

[Docket ID ED-2019-OSERS-0163]

Final Priorities—Rehabilitation Training: Innovative Rehabilitation Training Program

AGENCY: Office of Special Education and Rehabilitative Services (OSERS), Department of Education.

ACTION: Final priorities.

SUMMARY: The Department of Education (Department) announces priorities under the Innovative Rehabilitation Training program, Catalog of Federal Domestic Assistance (CFDA) number 84.263D/E/F. The Department may use one or more of these priorities for competitions in fiscal year (FY) 2020 and later years. We take this action to focus Federal financial assistance on an identified national need to improve the knowledge and skills of vocational rehabilitation (VR) personnel in providing VR services to individuals with disabilities and improve the Client Assistance Program (CAP) personnel in advising, informing, and advocating on behalf of VR participants and applicants with disabilities.

DATES: Effective Date: These priorities are effective September 8, 2020.

FOR FURTHER INFORMATION CONTACT: Cassandra P. Shoffler, U.S. Department of Education, 400 Maryland Avenue SW, Room 5122, Potomac Center Plaza, Washington, DC 20202-2800. Telephone: (202) 245-7827. Email: 84.263DEF@ed.gov.

If you use a telecommunications device for the deaf (TDD) or a text telephone (TTY), call the Federal Relay Service (FRS), toll free, at 1-800-877-8339.

SUPPLEMENTARY INFORMATION:

Purpose of Program: The Innovative Rehabilitation Training program is designed to develop (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities.

Program Authority: 29 U.S.C. 709(c) and 772.

Applicable Program Regulations: 34 CFR parts 385 and 387.

We published a notice of proposed priorities (NPP) for this competition in the Federal Register on April 27, 2020 (85 FR 23266). The NPP contained background information and our reasons for proposing the particular priorities.

There are some differences between Priority 1 in the NPP and the final Priority 1 adopted here, as discussed in the Analysis of Comments and Changes section of this document. The differences between the proposed and final Priority 2 and Priority 3 are minor editorial and technical corrections. We are not establishing Proposed Priority 4 as a final priority through this regulatory action. Proposed Priority 4 was also proposed for Department-wide use in the Secretary's Administrative Priorities for Discretionary Grant Programs published in the Federal Register on November 29, 2019 (84 FR 65734). In order to ensure that the priority would be available for this competition, RSA proposed it in the NPP for this competition as well. The Secretary's Final Administrative Priorities for Discretionary Grant Programs were published in the Federal Register on March 9, 2020 (85 FR 13640). Therefore, there is no need to adopt the priority again in this document.

Public Comment: In response to our invitation in the NPP, 79 parties submitted comments on the proposed priorities.

We group major issues according to subject. We discuss substantive issues under each of the priorities to which they pertain. Generally, we do not address technical and other minor changes, or suggested changes the law does not authorize us to make. In addition, we do not address general comments that raise concerns not directly related to the proposed priorities.

Analysis of Comments and Changes: An analysis of the comments and of any changes in the priorities from the NPP follows.

Priority 1—Innovative Rehabilitation Training Project, Client Assistance Program

Comment: Some commenters expressed concern that the proposed priority would merge CAP training with academic programs for VR counselors and, thus, fail to meet the training needs of CAP professionals, whose knowledge, competencies, and goals are substantially different from those of VR counselors. These commenters' concern is based on a statement in the NPP that indicated that the project must develop a new or substantially improved training program, including stand-alone modules to be incorporated into an existing academic degree program for educating VR counselors or other VR professionals and paraprofessionals.

Discussion: The Department agrees that the CAP professionals' competencies and goals are substantially different from those of VR counselors and that a combined academic program for both VR and CAP professionals would not meet the training needs of CAP professionals. This priority was not intended to create a merged academic program for both CAP and VR personnel. The CAP training program will continue to be a program geared to the professional needs and the required knowledge, skills, and competencies of CAP professionals. The established, stand-alone modules referenced in this document do not represent the entire CAP training program. The training program includes ad hoc training activities and ongoing technical assistance, in addition to the established, stand-alone modules. Some, but not all, of these stand-alone modules may be incorporated into existing VR academic degree programs, for example, to improve VR professionals' and paraprofessionals' understanding about the CAP program and the individuals the program serves. The majority of training activities are focused on the professional needs and required knowledge, skills, and competencies of CAP professionals. We are revising the priority to make this distinction clear.

Changes: The Department added examples of innovative CAP training delivery methods and knowledge translation techniques in Priority 1. We added language to Priority 1 to: (1) Incorporate multiple references to the program's focus on the training needs of CAP professionals as distinct from those of VR professionals; (2) specify that the training plan must be based on the identified training needs of CAP professionals to effectively carry out the Client Assistance Program responsibilities under section 112 of the Rehabilitation Act of 1973, as amended by the Workforce Innovation and Opportunity Act (WIOA) (Rehabilitation Act); and (3) provide context that the purpose of any stand-alone modules incorporated into VR academic degree or short-term training programs is to promote greater understanding among VR professionals and paraprofessionals and individuals studying to become VR professionals and paraprofessionals about the CAP program and the individuals that it serves.

Comment: Some commenters expressed concern that the proposed priority would fail to meet CAP professionals' training needs, because of its apparent focus on a fixed, academic curriculum rather than on a flexible training program that adapts to changing circumstances and emerging challenges in the field, as reported by the CAP professionals themselves. These commenters' concern is based on the statement in the NPP that the training program or modules must be developed by the end of the first year of the project period and piloted, refined, implemented, evaluated, and disseminated in years two, three, four, and five of the performance period. Implicit in the commenters' comments about a combined program for VR and CAP professionals is the concern that the Department has not clearly enough delineated the CAP priority.

Discussion: The Department agrees that the CAP training activities and materials must be responsive to changing circumstances and emerging challenges in the field. Conversely, CAP training also encompasses subjects ranging from fiscal management to compliance with the Rehabilitation Act, which are relatively stable and lend themselves to established training modules. In addition, the Department acknowledges that Proposed Priority 1 did not clearly describe what would constitute innovative training delivery and knowledge translation methods and techniques. Accordingly, the Department has determined that adding examples could support entities preparing applications and, in turn, strengthen the CAP Innovative Training program.

Changes: We added language to topic area one of Priority 1 to indicate that the CAP training program will consist of established training modules, ad hoc training activities developed in response to emerging circumstances or trends, and stand-alone training modules that can be incorporated into existing academic degree or short-term VR training programs. All training options will be subject to periodic review and updates. In addition, the Department added examples of innovative CAP training delivery methods and knowledge translation techniques in Priority 1.

Comment: Some commenters expressed concern that the proposed priority did not adequately reflect the CAP program requirements under section 112 of the Rehabilitation Act, including those related to individual and systems advocacy; the Americans with Disabilities Act of 1990; and coordination of CAP training and technical assistance activities with those for the Protection and Advocacy of Individual Rights (PAIR) program.

Discussion: The Department agrees that CAP responsibilities under the Rehabilitation Act are at the heart of the CAP training program. The need for continued training based on the CAP responsibilities under the Rehabilitation Act was implicit in the proposed priority. It is appropriate to emphasize this basis for the CAP training in the final priority.

Changes: We added language to topic area one of Priority 1 to establish as key focal points of CAP training the following items: (1) CAP professionals' knowledge, skills, and competencies regarding CAP program responsibilities under section 112 of the Rehabilitation Act and the VR service provision requirements in the Rehabilitation Act, particularly in support of the implementation of key provisions of WIOA; and (2) training and technical assistance activities, which must be coordinated with the entity providing training and technical assistance to the PAIR program, consistent with section 509 of the Rehabilitation Act.

Comment: Some commenters expressed concern that the proposed priorities did not address CAP professionals' need for ongoing technical assistance regarding legal or policy issues related to the Rehabilitation Act.

Discussion: The Department agrees that ongoing technical assistance on legal or policy issues related to the Rehabilitation Act is necessary for CAP professionals to apply knowledge gained through CAP training situations and circumstances that arise in their States.

Changes: We have added language to topic area one of Priority 1 to require the CAP training program to incorporate ongoing technical assistance related to topics addressed in the training modules and ad hoc training activities, including consultation and technical assistance on the options for applying existing law, regulations, and RSA-issued guidance to specific factual circumstances that arise in the course of CAP professionals' individual or systems advocacy efforts.

Comment: Some commenters expressed concern that the proposed priorities did not address CAP professionals' need for training on essential supporting skills, including advocacy and fiscal management.

Discussion: The Department agrees that strong advocacy and fiscal management skills are essential for CAP professionals to effectively fulfill their responsibilities under the Rehabilitation Act.

Changes: We have added language to topic area one of final Priority 1 to incorporate the following topics among the five required training subject areas: (1) Program and fiscal management training to promote the cost-effective use of Federal and non-Federal resources and (2) leadership, relationship-building, outreach, and individual and systems advocacy skills to promote effective interaction by CAP professionals with VR clients and applicants, State VR agencies, State Rehabilitation Councils, and other stakeholders.

Comment: None.

Discussion: In the background section of Priority 1, the NPP included examples of the expanded opportunities for employment and career advancement under WIOA that are to be addressed in the CAP Innovative Rehabilitation Training program. The Department considers it helpful to include these examples in the text of the final priority itself, so that they will be easily referenced by applicants.

Changes: The Department added to Priority 1 the following examples of the expanded opportunities for employment and career advancement to be addressed through the CAP Innovative Rehabilitation Training program: Pre-employment transition services, work-based learning, apprenticeships, customized employment, career pathways, and postsecondary credentials, including advanced degrees.

Comment: None.

Discussion: Priority 1 requires a process of continuous feedback and improvement under the CAP training program. The Department is adding that a process of continuous evaluation is also required and is providing examples in this requirement to clarify the priority's intent, increase the quality of applications, and, thereby, strengthen the CAP Innovative Rehabilitation Training program.

Changes: The Department clarified that continuous evaluation is also required and provided examples pertinent to the process of feedback, evaluation, and improvement in Priority 1.

Priority 2—Innovative Rehabilitation Training Program, Assisting and Supporting Individuals With Disabilities Pursuing Self-Employment, Business Ownership, and Telecommuting

Comment: One commenter supported the priority topic area.

Discussion: The Department appreciates the comment and the support for the priority topic area.

Changes: None.

Priority 3—Innovative Rehabilitation Training Program, Field Initiated

Comment: Many commenters stated the importance of and need for vocational evaluation training programs in the VR field.

Discussion: The Department agrees with the commenters that vocational evaluation training is important. In FY 2019, the Department held a competition and funded a five-year award under the Innovative Rehabilitation Training program with a topic area called “career assessments for VR service recipients” to address the importance of vocational evaluation in identifying and providing VR services. The Department does not believe that it is necessary to hold a second competition in this topic area in such a short time. However, applicants under this field-initiated priority may propose a topic in vocational evaluation.

Changes: None.

Priority 4—Applications From New Potential Grantees

Comment: One commenter recommended that the Department not eliminate applications from institutions of higher education that received grants under this program in the past and have the individuals with expertise and experience in delivering training programs.

Discussion: Priority 4 is designed to attract new applications, but does not preclude applications from eligible entities, including institutions of higher education that received a grant under this program. Eligible applicants who have received a grant in the past, have an active grant in another program, or have an active discretionary grant under this program, including through membership in a group application, may still submit an application and be considered for funding under other priorities.

It should be noted that Priority 4 was also proposed on November 29, 2019, in the Secretary's Administrative Priorities for Discretionary Grant Programs (84 FR 65734). In order to ensure that Priority 4 would be available for this competition, RSA proposed it in the NPP for this competition as well. The Secretary's Final Administrative Priorities for Discretionary Grant Programs were published in the Federal Register on March 9, 2020 (85 FR 13640). Therefore, there is no need to adopt the priority again in this document.

Changes: As a Department-wide priority for applications from new potential grantees has already been established, Proposed Priority 4 is not established through this regulatory action.

Final Priorities

Priority 1—Innovative Rehabilitation Training Program, Client Assistance Program

A project under this priority must increase the CAP professionals' knowledge about all requirements governing the CAP program and VR services under the Rehabilitation Act, while also increasing the capacity of CAP professionals to inform VR clients and applicants about the expanded opportunities available under the Workforce Innovation and Opportunity Act (WIOA) and provide the assistance and advocacy that the clients and applicants need. The project must enhance CAP professionals' knowledge, skills, and competencies in each of the following required subject areas: (a) CAP responsibilities in section 112 of the Rehabilitation Act and the VR service provision requirements in the Rehabilitation Act, particularly in support of the implementation of key provisions of WIOA; (b) expanded opportunities for quality employment under WIOA and the pertinent provisions regarding unified and combined State plans, common performance measures, and the workforce development system, including pre-employment transition services, work-based learning, apprenticeships, customized employment, career pathways, and postsecondary credentials, including advanced degrees; (c) opportunities and challenges for individuals with the most significant disabilities, students and youth with disabilities, and traditionally underserved populations, including those at the intersection of poverty and disability; (d) program and fiscal management training to promote the effective use of Federal and non-Federal resources under the Rehabilitation Act; and (e) leadership, relationship-building, outreach, and individual and systems advocacy skills to promote effective interaction by CAP professionals with VR clients and applicants, State VR agencies, State Rehabilitation Councils, and other stakeholders.

The project must develop a new or substantially improved training program meeting the professional needs and the required knowledge, skills, and competencies of CAP professionals. The CAP Training program will consist of established, stand-alone training modules as well as ad hoc training activities developed in response to emerging circumstances or trends. Stand-alone training modules may include selected topics that can be incorporated into existing academic degree or short-term VR training programs, for example, to promote greater understanding among VR professionals and paraprofessionals about the CAP program and the individuals that the program serves.

The CAP training program will also encompass ongoing technical assistance related to topics addressed in the training modules and ad hoc training activities, including consultation and technical assistance on options for applying existing law, regulations, and RSA-issued guidance to specific factual circumstances that arise in the course of CAP professionals' individual or systems advocacy efforts.

Training delivery methods must encompass: (a) State-of-the-art communication tools and platforms, including an interactive project website, distance learning and convening technologies, social media, and searchable databases; and (b) the latest knowledge translation methods and techniques, including engaging training recipients with different learning styles.

The project must develop an overall training plan specifying the major components (e.g., training modules, ad hoc training activities, and ongoing technical assistance), informational resources (e.g., curricula, materials, searchable databases, communities of practice), and modes of delivery (e.g., in-person, virtual). The training plan must be based on the identified training needs of CAP professionals to effectively carry out the CAP responsibilities under title IV, section 112 of the Rehabilitation Act.

The training modules must be developed by the end of the first year of the project period and piloted, refined, implemented, evaluated, and disseminated in years two, three, four, and five of the project period. The ad hoc training activities and technical assistance will be developed on an ongoing basis in response to circumstances and emerging needs.

A process for continuous feedback, evaluation, and improvement to ensure that the training modules, the ad hoc training activities, and technical assistance are responsive to the needs of CAP professionals throughout years two, three, four, and five must be included. This process may include surveys, success stories, and analyses of data elements specified in the Annual CAP Performance Report (RSA-227).

The training and technical assistance must be of sufficient scope, intensity, and duration for CAP professionals to achieve increased skill, knowledge, and competence in the topic areas.

The applicant must review and incorporate the resources developed by the RSA VR Technical Assistance Centers and Demonstration and Training projects, available at the National Clearinghouse for Rehabilitation Training Materials, and other Federal and nongovernment sources, as appropriate, in developing its training and technical assistance curricula and delivery methods.

Training and technical assistance activities also must be coordinated with the entity providing training and technical assistance to the Protection and Advocacy of Individual Rights program, consistent with section 509 of the Rehabilitation Act.

Priority 2—Innovative Rehabilitation Training Program, Assisting and Supporting Individuals With Disabilities Pursuing Self-Employment, Business Ownership, and Telecommuting

A project in the area of assisting and supporting individuals with disabilities pursuing self-employment, business ownership, and telecommuting must develop a new or substantially improved and, to the extent possible, evidence-based ¹ training program, including stand-alone modules and instructional materials to be incorporated into an existing academic degree program for educating VR counselors or other VR professionals and paraprofessionals or into short-term training for VR professionals, or both. The training program or modules must be developed by the end of the first year of the project period and piloted, refined, implemented, evaluated, and disseminated in years two, three, four, and five of the project period. A process for continuous feedback, evaluation, and improvement to ensure the training program or modules are responsive to the needs of the VR professionals and paraprofessionals throughout years two, three, four, and five must be included. This process may include evidence collected from surveys or success stories or other forms of evidence.

¹ For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

The training must be of sufficient scope, intensity, and duration for VR professionals, paraprofessionals, and individuals studying to become VR professionals and paraprofessionals to achieve increased skill, knowledge, and competence in the area of assisting and supporting individuals with disabilities pursuing self-employment, business ownership, and telecommuting.

Priority 3—Innovative Rehabilitation Training Program, Field Initiated

A field-initiated project must clearly identify the topic to be addressed and provide sufficient evidence to demonstrate the need for the innovative rehabilitation training in a proposed new topic area or, in areas for which there is existing training, demonstrate that the existing training is not adequately meeting the needs of VR professionals, paraprofessionals, and individuals studying to become VR professionals and paraprofessionals.

The project must develop a new or substantially improved and, to the extent possible, evidence-based ² training program, including stand-alone modules and instructional materials to be incorporated into an existing academic degree program for educating VR counselors or other VR professionals and paraprofessionals, or into short-term training for VR professionals, or both. The training program or modules must be developed by the end of the first year of the project period and piloted, refined, implemented, evaluated, and disseminated in years two, three, four, and five of the project period. A process for continuous feedback, evaluation, and improvement to ensure the training program or modules are responsive to the needs of the VR professionals and paraprofessionals throughout years two, three, four, and five must be included. This process may include evidence collected from surveys or success stories or other forms of evidence.

² For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

The training must be of sufficient scope, intensity, and duration for VR professionals, paraprofessionals, and individuals studying to become VR professionals and paraprofessionals to achieve increased skill, knowledge, and competence in the topic area.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This document does not solicit applications. In any year in which we choose to use one or more of these priorities, we invite applications through a notice in the Federal Register.

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3 (f) of Executive Order 12866.

Under Executive Order 13771, for each new rule that the Department proposes for notice and comment or otherwise promulgates that is a significant regulatory action under Executive Order 12866, and that imposes total costs greater than zero, it must identify two deregulatory actions. For FY 2020, any new incremental costs associated with a new significant regulatory action must be fully offset by the elimination of existing costs through deregulatory actions. Because this regulatory action is not significant, the requirements of Executive Order 13771 do not apply.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits would justify their costs. In choosing among alternative regulatory approaches, we selected those approaches that maximize net benefits. Based on the analysis that follows, the Department believes that this regulatory action is consistent with the principles in Executive Order 13563.

We have also determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities. The costs would include the time and effort in responding to the priorities for entities that choose to respond.

In addition, we have considered the potential benefits of this regulatory action and have noted these benefits in the background section of the NPP. The benefits include supporting the work of the State VR agencies in the Client Assistance Program (84.263D); assisting and supporting individuals with disabilities pursuing self-employment, business ownership, and telecommuting (84.263E); promoting field-initiated projects related to VR (84.263F); and tailoring the activities conducted under the priorities to reflect the greatest needs in the field.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration, Delegated the Authority to Perform the Functions and Duties of the Assistant Secretary for the Office of Special Education and Rehabilitative Services.

[FR Doc. 2020-16958 Filed 8-4-20; 4:15 pm]

BILLING CODE 4000-01-P